DEPARTMENT OF THE INTERIOR

Bureau of Land Management

[LLWY9250000-L14400000-ET0000; WYW-132601]

Public Land Order No. 7916; Extension of Public Land Order No. 7546; Withdrawal for Protection of Sweetwater River Recreational, Scenic, Riparian, Historic, and Wildlife Resources, Wyoming

AGENCY: Bureau of Land Management, Interior.

ACTION: Public Land Order.

SUMMARY: This order extends the duration of the withdrawal created by Public Land Order (PLO) No. 7546, which would otherwise expire on December 8, 2022, for an additional 20-year term. PLO No. 7546 withdrew 4,943.13 acres of public lands from settlement, sale, location, or entry under general land laws, including the United States mining laws. The withdrawal extension is necessary to continue protecting the Sweetwater River, Wyoming.

DATES: This Public Land Order takes effect on December 8, 2022.

FOR FURTHER INFORMATION CONTACT: Keesha Clay, Realty Specialist, Bureau of Land Management, Wyoming State Office, 5353 Yellowstone Rd., Cheyenne, Wyoming 82009, telephone: (307) 775-6189, email: kclay@blm.gov; or you may contact the BLM office at the address listed above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires an extension to continue the protection of the Sweetwater River and the resources associated with it.

Order

By virtue of the authority vested in the Secretary of the Interior by Section 204(f) of the Federal Land Policy and Management Act of 1976, 43 U.S.C. 1714(f), it is ordered as follows:

1. Subject to valid existing rights, PLO No. 7546 (67 FR 72970 (2002)), which withdrew 4,943.13 acres of public lands from settlement, sale, location, or entry under general land laws, including the United States mining laws, for the protection of Sweetwater River Recreational, Scenic, Riparian, Historic, and Wildlife Resources, is hereby extended for an additional 20-year period.

2. This withdrawal extended by this order will expire on December 8, 2042, unless, as a result of a review conducted prior to the expiration date pursuant to Section 204(f) of the Federal Land Policy and Management Act of 1976, 43 U.S.C. 1714(f), the Secretary determines that the withdrawal shall be further extended.

(Authority: 43 U.S.C. 1714(f))

Shannon A. Estenoz,
Assistant Secretary for Fish and Wildlife and Parks.

[FR Doc. 2022-26829 Filed 12-8-22; 8:45 am]

BILLING CODE 4310-22-P